DEPARTMENT OF THE INTERIOR

Bureau of Land Management

[LLNMF02000 L16100000.DT0000 LXSS026G0000]

Notice of Availability of the Record of Decision for the Taos Resource Management Plan/Environmental Impact Statement

AGENCY: Bureau of Land Management, Interior.

ACTION: Notice of availability.

SUMMARY: The Bureau of Land Management (BLM) announces the availability of the Record of Decision (ROD)/Approved Resource Management Plan (RMP) for the Taos Field Office located in northern New Mexico. The New Mexico State Director signed the ROD on May 24, 2012, which constitutes the final decision of the BLM and makes the Approved RMP effective immediately.

ADDRESSES: Copies of the ROD/Approved RMP are available upon request from the Field Manager, Taos Field Office, Bureau of Land Management, 226 Cruz Alta Road, Taos, New Mexico, or via the Internet at: www.blm.gov/nm/taos. Copies of the ROD/Approved RMP are available for public inspection at the BLM New Mexico State Office at 301 Dinosaur Trail, Santa Fe, New Mexico.

FOR FURTHER INFORMATION CONTACT: Brad Higdon, Planning and Environmental Coordinator, Taos Field Office, telephone 575-751-4725; address 226 Cruz Alta Road, Taos, New Mexico 87571; email bhigdon@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Approved RMP provides broad-scale direction for the management of about 595,100 acres of BLM surface estate and 1.5 million acres of mineral estate administered by the BLM Taos Field Office within Colfax, Harding, Los Alamos, Mora, Rio Arriba, San Miguel, Santa Fe, Taos, and Union counties and is prepared in accordance with the National Environmental Policy Act of 1969, as amended (NEPA), and the Federal Lands Policy and Management Act of 1976, as amended. The Approved RMP, which replaces a land use plan completed in 1988, provides updated management decisions regarding land tenure adjustments, land use authorizations, mineral resources, recreation, renewable energy, special designations, transportation and access, wilderness characteristics, visual resources, and other resources and uses.

The Approved RMP was prepared in partnership with cooperating agencies, Ohkay Owingeh Pueblo, New Mexico Department of Game and Fish, and Santa Fe County, as well as in collaboration with multiple tribes, agencies, organizations, and other members of the public, largely through the public participation provided under NEPA. The Draft RMP/Environmental Impact Statement (EIS) was released for a 90-day public review and comment period on June 10, 2010, and identified Alternative A as the BLM's preferred alternative. Based on input received from cooperating agencies and the public, the preferred alternative was modified where appropriate and then presented as the Proposed RMP in the Final EIS, released December 2, 2011, for a public protest period and a Governor's consistency review period.

The BLM received 27 letters protesting decisions contained in the Proposed RMP/Final EIS, including decisions regarding mining opportunities in the San Pedro Mountains and Ojo Caliente Area of Critical Environmental Concern (ACEC), management of the La Cienega ACEC, land tenure adjustment opportunities in El Palacio, travel management, and protective management of the Old Spanish National Historic Trail. While the Governor's consistency review provided input from the Governor that the BLM considered in its decision making, the review did not identify any specific inconsistency with State plans, policies, or programs. As a result of protests receive during the protest period, the BLM made one change to the Approved RMP by removing language which unnecessarily limited the designation of off-highway vehicle routes within the Santa Fe ACEC, described in detail in the ROD/Approved RMP. Editorial and formatting modifications were also made to the Approved RMP.

The ROD/Approved RMP does not contain implementation-level decisions that may be appealed under the provisions of 43 CFR part 4, subpart E. Rather, all decisions are considered planning-level decisions and were subject to protest under 43 CFR 1610.5-2 at the time the Proposed RMP/Final EIS was made available to the public.

Jesse J. Juen,
State Director.

Authority: 40 CFR 1506.6; 43 CFR 1610.2(g), 1610.5-1(b).

[FR Doc. 2012-12680 Filed 5-23-12; 8:45 am]

BILLING CODE 4310-OW-P